DEPARTMENT OF COMMERCE

National Oceanic and Atmospheric Administration

[I.D. 091405B]

North Pacific Fishery Management Council; Notice of Public Meetings

AGENCY: National Marine Fisheries Service (NMFS), National Oceanic and Atmospheric Administration (NOAA), Commerce.

ACTION: Notice of meetings of the North Pacific Fishery Management Council and its advisory committees.

SUMMARY: The North Pacific Fishery Management Council (Council) and its advisory committees will hold public meetings October 5 through 11, 2005, at the Anchorage Hilton Hotel, 500 West 3rd Avenue, Anchorage, AK.

DATES: The Council's Advisory Panel (AP) will begin at 8 a.m., Monday, October 3 and continue through Friday October 7, 2005. The Scientific and Statistical Committee (SSC) will begin at 8 a.m. on Monday October 3 and continue through Wednesday, October 5, 2005.

The Council will begin its plenary session at 8 a.m. on Wednesday, October 5, continuing through October 11, 2005. All meetings are open to the public except executive sessions. The Enforcement Committee will meet Tuesday, October 4, from 1 to 5 pm.

ADDRESSES: Anchorage Hilton Hotel, 500 West 3rd Avenue, Anchorage, AK.

Council address: North Pacific Fishery Management Council, 605 W. 4th Avenue, Suite 306, Anchorage, AK 99501-2252.

FOR FURTHER INFORMATION CONTACT: Council staff, Phone: 907-271-2809.

SUPPLEMENTARY INFORMATION:

Council Plenary Session

The agenda for the Council's plenary session will include the following issues. The Council may take appropriate action on any of the issues identified.

1. Reports

Executive Director's Report (including report on freezer longline buyback and report on SSC operations per peer review requirements)

NMFS Management Report (includes update on Amendment 79)

U.S. Coast Guard Report

Alaska Department of Fish & Game (ADF&G) Report

U.S. Fish & Wildlife Service Report

Protected Species Report (Report on Right Whale critical habitat designation; receive report on Board of Fisheries/North Pacific Fishery Management Council pollock fishery subcommittee; update on Endangered Species Act (ESA) Salmon consultation; Fishery Management Plan (FMP) level Biological Opinion (BiOp) discussion/schedule)

2. Halibut Charter

Guideline Harvest Levels (GHLs) Status Report and action as necessary. Review Halibut Charter Individual Fishing Quotas (IFQ) letter from Dr. Hogarth.

3. Community Development Quotas (CDQ) Issues

Initial review of Environmental Assessment/Regulatory Impact Review (EA/RIR) on management CDQ reserves; report from Blue Ribbon Panel, update on Amendment 71 and status on CDQ allocation process and action as necessary.

4. Improved Retention/Improved Utilization (IR/IU)

Initial review of Amendment 80 Environmental Assessment/Regulatory Impact Review/Initial Regulatory Flexibility Analysis (EA/RIR/IRFA) (Head and Gut Cooperatives); Select preliminary preferred alternative.

5. Bering Sea Aleutian Islands (BSAI) Salmon Bycatch

Final action on EA/RIR for Amendment 84; Discuss package B; review alternatives and timelines for analysis; SSC workshop on salmon stock ID; review cooperative salmon research.

6. BSAI Pacific Cod Allocations

Review alternatives, components, and options, action as necessary.

7.Gulf of Alaska (GOA) Groundfish Rationalization

Review preliminary community data; review other data and information and revise alternatives/options as appropriate; review crab and salmon bycatch data, alternatives, and options.

8. Bairdi Crab Split

Final action on amendment.

9. Halibut/Sablefish IFQ Program

Initial review of omnibus amendment package (T).

10. Groundfish Management

Initial review EA and proposed specifications for 2006/07, Review Stock Assessment Fishery Evaluation (SAFE) ecosystem chapter, Rockfish Management, review discussion paper (T); Review discussion paper on BSAI pollock A-season start date; Review strawman problem statement and alternatives for Bering Sea Habitat Conservation/Essential Fish Habitat. (T)

11. Ecosystem Approaches

Status report on Aleutian Island Fishery Ecosystem Plan and Ecosystem Approach Management.

12. Crab Management

Review SAFE report for Crab Management.

13. Staff Tasking

14. Other Business

The SSC agenda will include the following issues:

1. SSC Operations

2. IR/IU

3. BSAI Salmon Bycatch

4. CDQ Issues

5. Halibut/Sablefish IFQs

6. Groundfish Management

7. Ecosystem Approaches

8. Crab Management

The Advisory Panel will address the same agenda issues as the Council.

Special Accommodations

These meetings are physically accessible to people with disabilities. Requests for sign language interpretation or other auxiliary aids should be directed to Gail Bendixen at 907-271-2809 at least 7 working days prior to the meeting date.

September 14, 2005.
Alan D. Risenhoover,
Acting Director, Office of Sustainablw Fisheries, National Marine Fisheries Service.

[FR Doc. E5-5122 Filed 9-19-05; 8:45 am]

BILLING CODE 3510-22-S